DEPARTMENT OF THE INTERIOR

National Park Service

Final Environmental Impact Statement and Comprehensive Management Plan, Merced Wild and Scenic River, Yosemite National Park, Madera, Mariposa, Merced, Mono & Tuolumne Counties, California; Notice of Approval of Record of Decision

SUMMARY: Pursuant to § 102(2)(C) of the National Environmental Policy Act of 1969 (P.L. 91-190, as amended) and the regulations promulgated by the Council on Environmental Quality (40 CFR Part 1505.2)—and in accord with a ruling of the U.S. District Court—the Department of the Interior, National Park Service has prepared and approved a Record of Decision for the Final Environmental Impact Statement and Merced River Comprehensive Management Plan, Yosemite National Park. This programmatic Plan addresses NPS stewardship of an 81-mile segment of the 122 miles of the Merced River designated as “Wild and Scenic” by Congress in 1987. The requisite no-action period was initiated July 7, 2000, with the U.S. Environmental Protection Agency's Federal Register notification of the filing of the Final Environmental Impact Statement (FEIS).

Decision: As soon as practical the National Park Service will begin to implement the Merced River Comprehensive Management Plan described as the Proposed Action (Alternative 2) contained in the FEIS. This alternative was deemed to be the environmentally preferred alternative. This course of action and four alternatives were identified and analyzed in the Final and Draft Environmental Impact Statements (the latter was announced for comment in the Federal Register on January 7, 2000). The full range of foreseeable environmental consequences were assessed, and appropriate mitigation measures identified.

Copies: Interested parties desiring to review the Record of Decision may obtain a copy by contacting the Superintendent, Yosemite National Park, P.O. Box 577, Yosemite, California 95389; or via telephone request at (209) 372-0201.

Dated: August 11, 2000.
William C. Walters,
Deputy Regional Director, Pacific West Region.

[FR Doc. 00-21085 Filed 8-17-00; 8:45 am]

BILLING CODE 4310-70-P/M